FEDERAL RESERVE SYSTEM

Notice of Proposals to Engage in Permissible Nonbanking Activities or to Acquire Companies that are Engaged in Permissible Nonbanking Activities; Correction

This notice corrects a notice (FR Doc. 05-17264) published on page 51816 of the issue for Wednesday, August 31, 2005.

Under the Federal Reserve Bank of Chcago, the entry for Marshall and Ilsley Corporation, Milwaukee, Wisconsin, is revised to read as follows:

A. Federal Reserve Bank of Chicago (Patrick M. Wilder, Assistant Vice President) 230 South LaSalle Street, Chicago, Illinois 60690-1414:

1. Marshall and Ilsley Corporation, Milwaukee, Wisconsin; to acquire Brasfield Holdings, LLC, Birmingham, Alabama, and thereby indirectly acquire ownership of Brasfield Technology LLC, Brasfield Data Services LLC, Image Center LLC and Image Exchange LLC, all located in Birmingham, Alabama, and thereby engage in data processing and management consulting activities, pursuant to sections 225.28(b)(9)(i)(A), and 225.28(b)(14)(i and ii) of Regulation Y.

Comments on this application must be received by September 15, 2005.

Board of Governors of the Federal Reserve System, September 1, 2005.
Jennifer J. Johnson,
Secretary of the Board.

[FR Doc. 05-17742 Filed 9-7-05; 8:45 am]

BILLING CODE 6210-01-S